FEDERAL MEDIATION AND CONCILIATION SERVICE

Notice of Stakeholder Surveys for Facilitation and Other Purposes

AGENCY: Federal Mediation and Conciliation Service (FMCS).

ACTION: 30-Day notice and request for comments.

SUMMARY: FMCS invites the general public and other Federal Agencies to take this opportunity to comment on the surveys and other information FMCS will collect to inform the process and participants for its conflict prevention, management, and resolution services provided to Federal Agencies, particularly public policy mediations and facilitations that include participants external to the federal government.

DATES: Comments must be submitted on or before June 21, 2022.

ADDRESSES: You may submit comments through one of the following methods:

• Email: register@fmcs.gov.

• Mail: Stakeholder Survey Comments c/o Sarah Cudahy, One Independence Square, 250 E St. SW, Washington, DC 20427. Please note that at this time, mail is sometimes delayed. Therefore, we encourage emailed comments.

FOR FURTHER INFORMATION CONTACT: Sarah Cudahy, 202-606-8090, register@fmcs.gov.

SUPPLEMENTARY INFORMATION: Copies of the proposed questions are available below. Paper copies are available by emailing register@fmcs.gov. Please ask for the Stakeholder Survey.

I. Information Collection Request

Agency: Federal Mediation and Conciliation Service.

Form Number: Not yet assigned.

Type of Request: New collection; generic clearance.

Affected Entities: Private sector; state, local, and tribal governments; individuals or households; and federal government.

Frequency: These methods of engagement are utilized on an as-needed basis. Each engagement is completed once.

Abstract: Pursuant to the Administrative Dispute Resolution Acts of 1990 and 1996, 5 U.S.C. 561 et seq. and 571 et seq., and 29 U.S.C. 173(f), the Federal Mediation and Conciliation Service provides conflict prevention, management, and resolution services, including, but not limited to, public policy facilitation and mediation services, to Federal agencies. As part of these services, sometimes FMCS employees need to survey or ask questions to determine the best process and participants to prevent, manage, or resolve the issue, particularly for public policy mediations, public policy or environmental facilitations, or negotiated rulemaking. To do so, FMCS has created a set of questions to ask various stakeholders about issues, concerns, engagement, and appropriate stakeholders relevant to the issues. The survey format will differ depending on the project but may be conducted in one or more of the following ways, both in-person and virtually: Individual or group interviews, individual or group discussions, or written surveys. The survey requests information such as stakeholder understanding of the particular issue, stakeholder interests in the particular issue, appropriate stakeholders, methods of engagement with the issue, and other similar information that will allow FMCS to best create a successful process. A link to the survey is found here: HTTPS://tags.fmcs.gov/4DAction/FC/DoAsynchTop?Fedreg*UPPJ*919/10300. To log in, go to: https://tags.fmcs.gov/, use username “Fedreg” and password “UPPJ.” The collection of such information is critical for ensuring the appropriate process, stakeholders, and stakeholder input in the process. No other collections are being conducted that would provide this information to FMCS.

Burden: The current total annual burden estimate is that FMCS will receive information from approximately 15,000 respondents per year. Interviews and discussions would be approximately thirty minutes in duration. Written surveys would take approximately ten minutes to complete. FMCS expects the total burden to not exceed 2,535 hours per year.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. 60-Day Comment Period

This information was previously published in the Federal Register on March 16, 2022, allowing for a 60-day public comment period under Document 2022-05543 at 87 FR 14857. FMCS received no comments.

IV. The Official Record

The official records are electronic records.

List of Subjects

Information collection requests.

Dated: May 16, 2022.
Anna Davis,
Acting General Counsel.

[FR Doc. 2022-10823 Filed 5-19-22; 8:45 am]

BILLING CODE 6732-01-P